AGENCY FOR INTERNATIONAL DEVELOPMENT

Notice of Public Information Collection Requirements Submitted to OMB for Review

SUMMARY: U.S. Agency for International Development (USAID) has submitted the following information collection to OMB for review and clearance under the Paperwork Reduction Act of 1995, Public Law 104-13. Comments regarding this information collection are best assured of having their full effect if received within 30 days of this notification. Comments should be addressed to: Desk Officer for USAID, Office of Information and Regulatory Affairs, Office of Management and Budget (OMB), Washington, DC 20503. Copies of submission may be obtained by calling (202) 712-5007.

SUPPLEMENTARY INFORMATION:

OMB Number: OMB 0412-0549.

Form Number: AID 302-3.

Title: Offeror Information for Personal Services.

Type of Submission: New Information Collection.

Purpose: United States Agency for International Development must collect information for reporting purposes to Congress and Office of Acquisition and Assistance Contract Administration. This collection is to gather information from applicants applying for personal services contractor positions. This form will be utilized to collect information to determine the most qualified person for a position without gathering information which may lead to discrimination or bias information towards or gathered from applicant.

Annual Reporting Burden

Respondents: 5000.

Total annual responses: 10,000.

Total annual hours requested: 10,000.

Dated: February 22, 2013.
Lynn P. Winston,
Chief, Bureau for Management, Office of Management Services, Information and Records Division, U.S. Agency for International Development.

[FR Doc. 2013-04720 Filed 2-28-13; 8:45 am]

BILLING CODE 6116-01-M